DEPARTMENT OF ENERGY

Federal Energy Regulatory Commission

[Docket No. CP02-63-001]

White Rock Pipeline, L.L.C.; Notice of Amendment

February 11, 2002.

Take notice that on February 11, 2002, White Rock Pipeline, L.L.C. (White Rock), 426 East Missouri Avenue, Pierre, South Dakota 57501, filed in Docket No. CP02-63-001, an amendment to its initial application pursuant to section 7(c) of the Natural Gas Act (NGA) and part 157 of the Commission's Rules and Regulations (Commission), for a certificate of public convenience and necessity authorizing White Rock to operate an existing single-use pipeline that is approximately 10.5 miles long and 4.5 inches in diameter, all as more fully set forth in the amendment which is on file with the Commission and open to public inspection. Copies of this filing are on file with the Commission and are available for public inspection. This filing may also be viewed on the web at http://www.ferc.gov using the “RIMS” link, select “Docket #” and follow the instructions (call 202-208-2222 for assistance).

White Rock states that the proposed pipeline is to be used to transport natural gas from an interconnection with the Alliance Pipeline in North Dakota, to a end-use customer, the Tri-State Ethanol Company, L.L.C. (Tri-State), which is White Rock's affiliate. White Rock states that the proposed pipeline is located in a sparsely-populated agricultural area in the extreme southeast corner of North Dakota and the extreme northeast corner of South Dakota. It is stated that the sole purpose and use of the pipeline will be to transport natural gas to White Rock's affiliate, Tri-State.

White Rock states that the purpose of its amendment is to reflect that White Rock is, or soon will be, entirely owned by Tri-State. It is stated that the other owners of White Rock, other than Tri-State, have or in the near future will transfer any equity interest they have in the pipeline to Tri-State Ethanol Company, L.L.C., in order to accomplish the requested waiver regarding rate filings and other matters requested in the original application.

Any questions regarding this amendment should be directed to James Robbennolt, Olinger, Lovald, Robbennolt, McCahren & Reimers, P.C., 117 E. Capitol, P. O. Box 66, Pierre, S.D. 57501, at (605) 224-8851.

There are two ways to become involved in the Commission's review of this project. First, any person wishing to obtain legal status by becoming a party to the proceedings for this project should, on or before February 19, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's web site under the “e-Filing” link.

If the Commission decides to set the amendment for a formal hearing before an Administrative Law Judge, the Commission will issue another notice describing that process. At the end of the Commission's review process, a final Commission order approving or denying a certificate will be issued.

Magalie R Salas,
Secretary.

[FR Doc. 02-3741 Filed 2-14-02; 8:45 am]

BILLING CODE 6717-01-P